DEPARTMENT OF HOMELAND SECURITY

Coast Guard

33 CFR Part 165

[Docket No. USCG-2024-0367]

Safety Zone; Annual Fireworks Displays Within the Sector Columbia River Captain of the Port Zone

AGENCY: Coast Guard, DHS.

ACTION: Notification of enforcement of regulation.

SUMMARY: The Coast Guard will enforce safety zone regulations at various locations in the Sector Columbia River Captain of the Port Zone from July 3, 2024 to July 27, 2024, to provide for the safety of life on navigable waters during fireworks displays. The regulation for fireworks displays within the Thirteenth Coast Guard District designates safety zones and identifies approximate dates for these events. Specific dates and times are identified in this notice. These regulations prohibit persons and vessels from being in the safety zones unless authorized by the Captain of the Port Sector Columbia River or a designated representative.

DATES: The regulations in 33 CFR 165.1315 will be enforced for the safety zones identified in the SUPPLEMENTARY INFORMATION section below for the dates and times specified.

FOR FURTHER INFORMATION CONTACT: If you have questions about this notice of enforcement, call or email Lieutenant Carlie Gilligan, Waterways Management Division, Sector Columbia River, Coast Guard; telephone 503-240-9319, email SCRWWM@USCG.MIL.

SUPPLEMENTARY INFORMATION: The Coast Guard will enforce safety zones in 33 CFR 165.1315 for the following events, during the designated enforcement periods, and within a 450-yard radius of the launch site at the listed locations. This action is being taken to provide for the safety of life on navigable waterways during these events.

Our regulation for fireworks displays within the Thirteenth Coast Guard District designates the regulated areas and identifies the approximate dates for these events. The specific dates and times are specified below. These safety zones are subject to enforcement at least 1 hour prior to the start and 1 hour after the conclusion of the events.

Table—Dates and Durations of Enforcement for 33 CFR 165.1315 Safety Zones at various locations Within the Sector Columbia River Captain of the Port Zone in 2024
Event name (typically) | Event location | Date of event | Latitude | Longitude
The Mill Casino Independence Day | North Bend, OR | July 3, 2024 9:30 p.m. to 11:00 p.m. | 43°23′42″ N | 124°12′55″ W
Waldport 4th of July | Waldport, OR | July 3, 2024 9:30 p.m. to 11:00 p.m. | 44°25′31″ N | 124°04′44″ W
Astoria-Warrenton 4th of July Fireworks | Astoria, OR | July 4, 2024 9:30 p.m. to 11:00 p.m. | 46°11′34″ N | 123°49′28″ W
Bandon 4th of July | Bandon, OR | July 4, 2024 9:30 p.m. to 11:00 p.m. | 43°07′29″ N | 124°25′05″ W
Brookings July 4th Fireworks | Brookings, OR | July 4, 2024 9:30 p.m. to 11:00 p.m. | 42°02′39″ N | 124°16′14″ W
Cascade Locks 4th of July Fireworks | Cascade Locks, OR | July 4, 2024 9:30 p.m. to 11:00 p.m. | 45°40′15″ N | 121°53′43″ W
Clatskanie Heritage Days Fireworks | Clatskanie, OR | July 4, 2024 9:30 p.m. to 11:00 p.m. | 46°6′17″ N | 123°12′02″ W
Fireworks Over the Bay | Coos Bay, OR | July 4, 2024 9:30 p.m. to 11:00 p.m. | 43°22′06″ N | 124°12′24″ W
Florence Independence Day Celebration | Florence, OR | July 4, 2024 9:30 p.m. to 11:00 p.m. | 43°58′09″ N | 124°05′50″ W
Fort Dalles Fourth of July | The Dalles, OR | July 4, 2024 9:30 p.m. to 11:00 p.m. | 45°36′18″ N | 121°10′23″ W
Hood River 4th of July | Hood River, OR | July 4, 2024 9:30 p.m. to 11:00 p.m. | 45°42′58″ N | 121°30′32″ W
July 4th Party at the Port of Gold Beach | Gold Beach, OR | July 4, 2024 9:30 p.m. to 11:00 p.m. | 42°25′30″ N | 124°25′03″ W
Kennewick River of Fire Fireworks | Kennewick, WA | July 4, 2024 9:30 p.m. to 11:30 p.m. | 46°13′37″ N | 119°08′47″ W
Lincoln City 4th of July | Lincoln City, OR | July 4, 2024 9:30 p.m. to 11:00 p.m. | 44°55′28″ N | 124°01′31″ W
Newport 4th of July | Newport, OR | July 4, 2024 9:30 p.m. to 11:00 p.m. | 44°37′31″ N | 124°02′5″ W
Oaks Park Association 4th of July | Portland, OR | July 4, 2024 9:30 p.m. to 11:00 p.m. | 45°28′22″ N | 122°39′59″ W
Port Orford 4th of July Jubilee | Port Orford, OR | July 4, 2024 9:30 p.m. to 11:00 p.m. | 42°44′31″ N | 124°29′30″ W
St. Helens 4th of July Fireworks | St. Helens, OR | July 4, 2024 9:30 p.m. to 11:00 p.m. | 45°51′54″ N | 122°47′26″ W
Waterfront Blues Festival Fireworks | Portland, OR | July 4, 2024 9:30 p.m. to 11:00 p.m. | 45°30′42″ N | 122°40′14″ W
Waverly Country Club 4th of July Fireworks | Milwaukie, OR | July 4, 2024 9:30 p.m. to 11:00 p.m. | 45°27′03″ N | 122°39′18″ W
Yachats 4th of July | Yachats, OR | July 4, 2024 9:30 p.m. to 11:00 p.m. | 44°18′38″ N | 124°06′27″ W
Ilwaco Independence Day at the Port | Ilwaco, WA | July 6, 2024 9:30 p.m. to 11:00 p.m. | 46°18′17″ N | 124°02′00″ W
Rainier Days in the Park | Rainier, OR | July 13, 2024 9:30 p.m. to 11:00 p.m. | 46°05′46″ N | 122°56′18″ W
Toledo Summer Festival | Toledo, OR | July 20, 2024 9:30 p.m. to 11:00 p.m. | 44°37′08″ N | 123°56′24″ W
Garibaldi Days Fireworks | Garibaldi, OR | July 27, 2024 9:30 p.m. to 11:00 p.m. | 45°33′13″ N | 123°54′56″ W

All coordinates are listed in reference Datum NAD 1983.

During the enforcement periods, as reflected in § 165.1315, no person may enter or remain in the safety zones created by this section or bring, cause to be brought, or allow to remain in the regulated areas created by this section, any vehicle, vessel, or object unless authorized by the Captain of the Port Sector Columbia River or a designated representative. In addition to this notice of enforcement in the Federal Register, the Coast Guard will provide notification of these enforcement periods via the Local Notice to Mariners and Broadcast Notice to Mariners.

Dated: June 14, 2024.
J.W. Noggle,
Captain, U.S. Coast Guard, Captain of the Port Sector Columbia River.

[FR Doc. 2024-15119 Filed 7-10-24; 8:45 am]

BILLING CODE 9110-04-P